SECURITIES AND EXCHANGE COMMISSION

[Release No. IC-28408]

Notice of Applications for Deregistration under Section 8(f) of the Investment Company Act of 1940

September 26, 2008.

The following is a notice of applications for deregistration under section 8(f) of the Investment Company Act of 1940 for the month of September, 2008. A copy of each application may be obtained for a fee at the Commission's Public Reference Room, 100 F Street NE, Washington, DC 20549-1520 (tel. 202-551-5850). An order granting each application will be issued unless the SEC orders a hearing. Interested persons may request a hearing on any application by writing to the SEC's Secretary at the address below and serving the relevant applicant with a copy of the request, personally or by mail. Hearing requests should be received by the SEC by 5:30 p.m. on October 21, 2008, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

AIM Special Opportunities Funds [File No. 811-8697]

Summary: Applicant seeks an order declaring that it has ceased to be an investment company. On April 19, 2007, applicant transferred its assets to corresponding series of AIM Funds Group, based on net asset value. Expenses of $320,500 incurred in connection with the reorganization were paid by Invesco Aim Advisors, Inc., applicant's investment adviser.

Filing Dates: The application was filed on August 8, 2008, and amended on September 19, 2008.

Applicant's Address: 11 Greenway Plaza, Suite 100, Houston, TX 77046-1173.

Legg Mason Partners Appreciation Fund, Inc. [File No. 811-1940] Legg Mason Partners Capital Fund, Inc. [File No. 811-2667] Legg Mason Partners Aggressive Growth Fund, Inc. [File No. 811-3762] CitiFunds Trust I [File No. 811-4006]

Summary: Each applicant seeks an order declaring that it has ceased to be an investment company. On April 16, 2007, each applicant transferred its assets to a corresponding series of Legg Mason Partners Equity Trust, based on net asset value. Expenses of approximately $2,487,856, $521,422, $4,718,848 and $6,788, respectively, incurred in connection with the reorganizations were paid by each applicant and Legg Mason, Inc., the parent company of the investment adviser for each applicant.

Filing Date: The applications were filed on August 15, 2008.

Applicants' Address: 55 Water St., New York, NY 10041.

Legg Mason Partners California Municipals Fund, Inc. [File No. 811-3970] Legg Mason Partners Adjustable Rate Income Fund [File No. 811-6663]

Summary: Each applicant seeks an order declaring that it has ceased to be an investment company. On April 16, 2007, each applicant transferred its assets to corresponding series of Legg Mason Partners Income Trust, based on net asset value. Expenses of approximately $78,899 and $103,534, respectively, incurred in connection with the reorganizations were paid by each applicant and Legg Mason Inc., the parent company of the investment adviser for each applicant.

Filing Date: The applications were filed on August 15, 2008.

Applicants' Address: 55 Water St., New York, NY 10041.

Credit Suisse Short Duration Bond Fund [File No. 811-21032]

Summary: Applicant seeks an order declaring that it has ceased to be an investment company. On July 30, 2008, applicant made a liquidating distribution to its shareholders, based on net asset value. Expenses of $8,200 incurred in connection with the liquidation were paid by Credit Suisse Asset Management, LLC, applicant's investment adviser. Applicant has retained $11,851 in cash for payment of outstanding expenses.

Filing Date: The application was filed on September 12, 2008.

Applicant's Address: c/o Credit Suisse Asset Management, LLC, Eleven Madison Ave., New York, NY 10010.

Dreyfus Florida Intermediate Municipal Bond Fund [File No. 811-6489]

Summary: Applicant seeks an order declaring that it has ceased to be an investment company. On December 3, 2007, applicant transferred its assets to Dreyfus Intermediate Municipal Bond Fund, Inc., based on net asset value. Expenses of $56,540 incurred in connection with the reorganization were paid by applicant and the acquiring fund.

Filing Date: The application was filed on September 4, 2008.

Applicant's Address: c/o The Dreyfus Corporation, 200 Park Ave., New York, NY 10166.

Dreyfus Florida Municipal Money Market Fund [File No. 811-7091]

Summary: Applicant seeks an order declaring that it has ceased to be an investment company. On November 27, 2007, applicant transferred its assets to Dreyfus Municipal Money Market Fund, Inc., based on net asset value. Expenses of $47,480 incurred in connection with the reorganization were paid by applicant and the acquiring fund.

Filing Date: The application was filed on September 8, 2008.

Applicant's Address: c/o The Dreyfus Corporation, 200 Park Ave., New York, NY 10166.

Dreyfus Insured Municipal Bond Fund, Inc. [File No. 811-4237]

Summary: Applicant seeks an order declaring that it has ceased to be an investment company. On June 11, 2007, applicant transferred its assets to Dreyfus Municipal Bond Fund, a series of Dreyfus Bond Funds, Inc., based on net asset value. Expenses of $30,124 incurred in connection with the reorganization were paid by The Dreyfus Corporation, applicant's investment adviser.

Filing Date: The application was filed on September 8, 2008.

Applicant's Address: c/o The Dreyfus Corporation, 200 Park Ave., New York, NY 10166.

Dreyfus Massachusetts Intermediate Municipal Bond Fund [File No. 811-6644]

Summary: Applicant seeks an order declaring that it has ceased to be an investment company. On April 24, 2007, applicant transferred its assets to Dreyfus Premier State Municipal Bond Fund—Massachusetts Series—Class Z shares, based on net asset value. Expenses of $30,124 incurred in connection with the reorganization were paid by The Dreyfus Corporation, applicant's investment adviser.

Filing Date: The application was filed on September 4, 2008.

Applicant's Address: c/o The Dreyfus Corporation, 200 Park Ave., New York, NY 10166.

Dreyfus New Jersey Intermediate Municipal Bond Fund [File No. 811-6643]

Summary: Applicant seeks an order declaring that it has ceased to be an investment company. On June 7, 2007, applicant transferred its assets to Dreyfus Premier New Jersey Municipal Bond Fund, Inc. (Class Z shares), based on net asset value. Expenses of $30,124 incurred in connection with the reorganization were paid by The Dreyfus Corporation, applicant's investment adviser.

Filing Date: The application was filed on September 4, 2008.

Applicant's Address: c/o The Dreyfus Corporation, 200 Park Ave., New York, NY 10166.

Dreyfus New York Tax Exempt Intermediate Bond Fund [File No. 811-5161]

Summary: Applicant seeks an order declaring that it has ceased to be an investment company. On November 28, 2007, applicant transferred its assets to Dreyfus New York Tax Exempt Bond Fund, Inc., based on net asset value. Expenses of $55,080 incurred in connection with the reorganization were paid by applicant and the acquiring fund.

Filing Date: The application was filed on September 8, 2008.

Applicant's Address: c/o The Dreyfus Corporation, 200 Park Ave., New York, NY 10166.

Dreyfus Pennsylvania Intermediate Municipal Bond Fund [File No. 811-7089]

Summary: Applicant seeks an order declaring that it has ceased to be an investment company. On November 29, 2007, applicant transferred its assets to Dreyfus Premier State Municipal Bond Fund—Pennsylvania Series—Class Z shares, based on net asset value. Expenses of $53,460 incurred in connection with the reorganization were paid by applicant and the acquiring fund.

Filing Date: The application was filed on September 8, 2008.

Applicant's Address: c/o The Dreyfus Corporation, 200 Park Ave., New York, NY 10166.

Dreyfus Premier GNMA Fund [File No. 811-4880]

Summary: Applicant seeks an order declaring that it has ceased to be an investment company. On May 3, 2007, applicant transferred its assets to Dreyfus Premier GNMA Fund, Inc., based on net asset value. Expenses of $46,307 incurred in connection with the reorganization were paid by The Dreyfus Corporation, applicant's investment adviser.

Filing Date: The application was filed on September 4, 2008.

Applicant's Address: c/o The Dreyfus Corporation, 200 Park Ave., New York, NY 10166.

Black Pearl Funds [File No. 811-21785]

Summary: Applicant seeks an order declaring that it has ceased to be an investment company. On July 30, 2008, applicant made a liquidating distribution to its shareholders, based on net asset value. Expenses of $4,500 incurred in connection with the liquidation were paid by Firsthand Capital Management, Inc., applicant's investment adviser.

Filing Date: The application was filed on August 29, 2008.

Applicant's Address: Firsthand Capital Management, Inc., 125 South Market St., Suite 1200, San Jose, CA 95113.

XTF Investors Trust [File No. 811-22002]

Summary: Applicant seeks an order declaring that it has ceased to be an investment company. On March 10, 2008 and July 25, 2008, applicant made liquidating distributions to its shareholders, based on net asset value. Expenses of $3,440 incurred in connection with the liquidation were paid by applicant and XTF Advisors, LLC, applicant's investment adviser.

Filing Date: The application was filed on August 29, 2008.

Applicant's Address: c/o Gemini Fund Services, LLC, 450 Wireless Blvd., Hauppauge, NY 11788.

For the Commission, by the Division of Investment Management, pursuant to delegated authority.
Florence E. Harmon,
Acting Secretary.

[FR Doc. E8-23198 Filed 10-1-08; 8:45 am]

BILLING CODE 8011-01-P